DEPARTMENT OF DEFENSE

Office of the Secretary

Establishment of the Defense Business Practice Implementation Board

AGENCY: Department of Defense (DoD).

ACTION: Notice of establishment.

SUMMARY: The Defense Business Practice Implementation Board (DSPIB) is being established in consonance with the public interest and in accordance with the provisions of Pub. L. 92-463, the “Federal Advisory Committee Act,” title 5 U.S.C., Appendix 2. The DBPIB will make recommendations to the Secretary's Executive Council (SEC) on effective strategies to adopt best business practices of interest to the Department of Defense.

The Panel will consist of approximately 20 members selected on the basis of their preeminence in the fields of management, production, logistics, personnel leadership, and the defense industrial base. Consultants with special expertise also may be designated to assist the Board on and ad hoc basis.

FOR FURTHER INFORMATION CONTACT: Louis Douglas, Office of the Under Secretary of Defense (Comptroller/Chief Financial Officer), on 703-602-0193.

Dated: December 10, 2001.
L.M. Bynum,
Alternate OSD Federal Register Liaison Officer, Department of Defense.

[FR Doc. 01-30943 Filed 12-14-01; 8:45 am]

BILLING CODE 5001-00-MM